DEPARTMENT OF TRANSPORTATION

Federal Aviation Administration

[Policy Statement No. ANM-01-03]

Factors To Consider When Reviewing an Applicant's Proposed Human Factors Methods of Compliance for Flight Deck Certification

AGENCY: Federal Aviation Administration (FAA), DOT.

ACTION: Notice of final policy.

SUMMARY: The Federal Aviation Administration (FAA), announces the availability of final policy that clarifies current FAA policy with respect to compliance with human factors-related regulations during certification projects on transport category airplanes.

DATES: This final policy was issued by the Transport Airplane Directorate on February 7, 2003.

FOR FURTHER INFORMATION CONTACT: Steve Boyd, Federal Aviation Administration, Transport Airplane Directorate, Transport Standards Staff, Airplanes & Fightcrew Interface Branch, ANM-111, 1601 Lind Avenue, SW., Renton, WA 98055-4056; telephone (425) 227-1138; fax (425) 227-1320; e-mail: 9-ANM-111-human-factors@faa.gov.

SUPPLEMENTARY INFORMATION:

Discussion of Comments

A notice of proposed policy was published in the Federal Register on May 16, 2001 (66 FR 27196). Seven (7) commenters responded to the request for comments.

Background

The final policy provides guidance with respect to the recommended content of a Human Factors Certification Plan. A Human Factors Certification Plan is not a required document, but may be included as part of a transport category airplane certification project if an applicant so chooses. These recommendations can be used as a means by which the applicant and the FAA can establish an early and formal written agreement on the methods of compliance for regulations that relate to human factors and that are applicable to the certification project.

The final policy as well as the disposition of public comments received are available on the Internet at the following address: http://www.faa.gov/certification/aircraft/anminfo/finalpaper.cfm. If you do not have access to the Internet, you can obtain a copy of the policy by contacting the person listed under FOR FURTHER INFORMATION CONTACT.

Issued in Renton, Washington, on February 7, 2003.
Ali Bahrami,
Acting Manager, Transport Airplane Directorate, Aircraft Certification Service.

[FR Doc. 03-3973 Filed 2-18-03; 8:45 am]

BILLING CODE 4910-13-M